DEPARTMENT OF AGRICULTURE

Forest Service

Information Collection: Post-Hurricane Research and Assessment of Agriculture, Forestry, and Rural Communities in the U.S. Caribbean

AGENCY: Forest Service, USDA.

ACTION: Emergency Clearance Notice and request for comments.

SUMMARY: In accordance with the Paperwork Reduction Act of 1995, the Forest Service is submitting a request to the Office of Management and Budget (OMB) for review and approval under the emergency processing procedures for a new information collection request, Post-Hurricane Research and Assessment of Agriculture, Forestry, and Rural Communities in the U.S. Caribbean, and is seeking comments from all interested individuals and organizations.

DATES: Comments on this proposal for emergency review must be received in writing on or before June 4, 2018 to be assured of consideration. Comments received after that date will be considered to the extent practicable. The USDA Forest Service is requesting OMB to take action by May 9, 2018.

ADDRESSES: Comments concerning this information collection should be addressed to the Office of Management and Budget, Office of Information and Regulatory Affairs, Attn: Desk Officer for the USDA Forest Service, 725 17th Street NW, Washington, DC 20503, or sent via electronic mail to: oira_submissions@omb.eop.gov or via facsimile to 202-395-5806.

FOR FURTHER INFORMATION CONTACT: Requests for additional information should be made to Kathleen McGinley, Social Scientist, USDA Forest Service, by electronic mail to kmcginley@fs.fed.us, via facsimile 919-513-2978, or phone 919-513-3331. Individuals who use telecommunication devices for the deaf (TDD) may call the Federal Relay Service (FRS) at 1-800-877-8339 twenty-four hours a day, every day of the year, including holidays.

SUPPLEMENTARY INFORMATION:

Title: Post-Hurricane Research and Assessment of Agriculture, Forestry, and Rural Communities in the U.S. Caribbean.

OMB Number: 0596-NEW.

Expiration Date of Approval: New.

Type of Request: New request for emergency review and clearance.

Abstract: In September 2017, two major hurricanes passed through the Caribbean, causing catastrophic damage to communities, infrastructure, farms, and forests across Puerto Rico, U.S. Virgin Islands, and many neighboring islands, significantly compromising local livelihoods, food security, and economic stability throughout the region. To date, there is limited information on the impacts of Hurricanes Irma and Maria, particularly in terms of agricultural and forestry systems and the people who depend on them, and likewise, limited information about the effectiveness of related conservation practices or mitigation and adaptation strategies. Such information is critical to the design and implementation of ongoing recovery work and to longer-term resilience efforts in the U.S. Caribbean and in other regions affected by hurricanes or other major disturbances.

USDA, Forest Service seeks review and approval under the emergency processing procedures from Office of Management and Budget to collect information about the effects of Hurricanes Irma and Maria on agriculture, forestry, and rural communities in the U.S. Caribbean and the internal and external factors that affected their vulnerabilities or resilience. This information is essential to the Department of Agriculture's mandate to support agriculture and natural resources that are productive, sustainable, and provide benefits for the American public under the Rural Development Policy Act of 1980, and to Forest Service's mandate to provide expert advice and conduct research on the management of forests outside the National Forest system through the Cooperative Forestry Assistance Act of 1978. Additionally, the importance of gathering, analyzing, and sharing this type of information is reflected in the National Agricultural Research, Extension, and Teaching Policy Act of 1977, as amended, and the Forest and Rangeland Renewable Resources Research Act of 1978.

Information will be collected through focus groups and interviews with participants selected purposively in line with the collection objectives. This collection will generate scientifically-based, up-to-date information that can be used to inform ongoing post-hurricane recovery efforts and related risk reduction and mitigation and adaptation strategies by USDA, Forest Service, other Federal agencies, local government, civil society, and the private sector.

Affected Public: Individuals and Households, Private Sector Businesses, Non-Profit/Governmental Organizations, State/Local Government.

Estimated Annualized Burden Hours for Respondents and Non-Respondents for Six Month Emergency Approval Period: 376 hours.

Estimated Annual Number of Respondents for Six Month Emergency Approval Period: 220 (120 focus group participants; 100 interview respondents).

Estimated Annual Number of Responses per Respondent: 1 response/respondent is anticipated.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. USDA Forest Service will consider the comments received and amend the information collection as appropriate. All comments received in response to this notice, including names and addresses when provided, will be a matter of public record.

Dated: April 16, 2018.
Carlos Rodriguez-Franco,
Deputy Chief, Research & Development.

[FR Doc. 2018-09544 Filed 5-3-18; 8:45 am]

BILLING CODE 3411-15-P